DEPARTMENT OF AGRICULTURE

Animal and Plant Health Inspection Service

[Docket No. 03-092-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of regulations for the interstate movement of swine within a production system.

DATES: We will consider all comments that we receive on or before December 15, 2003.

ADDRESSES: You may submit comments by postal mail/commercial delivery or by e-mail. If you use postal mail/commercial delivery, please send four copies of your comment (an original and three copies) to: Docket No. 03-092-1, Regulatory Analysis and Development, PPD, APHIS, Station 3C71, 4700 River Road Unit 118, Riverdale, MD 20737-1238. Please state that your comment refers to Docket No. 03-092-1. If you use e-mail, address your comment to regulations@aphis.usda.gov. Your comment must be contained in the body of your message; do not send attached files. Please include your name and address in your message and “Docket No. 03-092-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding regulations for the interstate movement of swine within a production system, contact Dr. Adam Grow, National Surveillance Coordinator, National Center for Animal Health Programs, Veterinary Services, APHIS, 4700 River Road Unit 46, Riverdale, MD 20737-1231; (301) 734-3752. For copies of more detailed information on the information collection, contact Mrs. Celeste Sickles, APHIS' Information Collection Coordinator, at (301) 734-7477.

SUPPLEMENTARY INFORMATION: Title: Interstate Movement of Swine Within a Production System.

OMB Number: 0579-0161.

Type of Request: Extension of approval of an information collection.

Abstract: Under the Animal Health Protection Act (7 U.S.C. 8301-8317), the Secretary of Agriculture is authorized to regulate the interstate and foreign commerce of animals and other articles; and to cooperate with foreign countries, States or other jurisdictions, or persons to prevent the introduction into or dissemination within the United States of any pest or disease of livestock and to prevent or eliminate burdens on foreign and interstate commerce.

Within the U.S. Department of Agriculture, the Animal and Plant Health Inspection Service (APHIS) has been delegated authority to carry out these activities.

APHIS regulations in title 9 of the Code of Federal Regulations, chapter I, subchapter C, govern the interstate movement of animals and other articles to prevent the spread of pests and diseases of livestock within the United States.

The regulations in part 71 of subchapter C contain requirements for moving swine interstate within a swine production system. A production system consists of separate farms that each specialize in a different phase of swine production—sow herds, nursery herds, and finishing herds. These separate farms, all members of the same production system, may be located in more than one State. Our regulations facilitate the interstate movement of swine within a single production system while continuing to provide protection against the interstate spread of swine diseases. Moving swine interstate within a swine production system involves the use of two information collection activities in the form of a swine production health plan and an interstate swine movement report.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.081967 hours per response.

Respondents: Swine producers operating within swine production systems.

Estimated annual number of respondents: 1,200.

Estimated annual number of responses per respondent: 10.1.

Estimated annual number of responses: 12,200.

Estimated total annual burden on respondents: 1,000 hours. (Due to averaging, the total annual burden hours may not equal the product of the annual number of responses multiplied by the reporting burden per response.)

All responses to this notice will be summarized and included in the request for OMB approval. All comments will also become a matter of public record.

Done in Washington, DC, this 9th day of October 2003.
Kevin Shea,
Acting Administrator, Animal and Plant Health Inspection Service.

[FR Doc. 03-26044 Filed 10-14-03; 8:45 am]

BILLING CODE 3410-34-P